UNITED STATES INSTITUTE OF PEACE

Announcement of the Solicited Grant Initiative; Effective Immediately

AGENCY: United States Institute of Peace.

ACTION: Notice.

SUMMARY: The Agency announces its ongoing Solicited Grant Initiative. The Solicited Grant Initiative focuses on six countries as they relate to USIP's mandate. Applications are accepted throughout the year. The Solicited Initiative is restricted to projects that fit specific themes or topics identified for each country.

The six Solicited Initiative countries are outlined below. The specific themes and topics for each country may be found at our Web site at: http://www.usip.org/grants/solicited.html.

• Colombia

• Iran

• Iraq

• Nigeria

• Pakistan

• Sudan

Deadline: Solicited Initiative applications are accepted throughout the year. Please visit our Web site at: http://www.usip.org/grants/solicited/html for specific information on the competition as well as instructions about how to apply.

ADDRESSES: If you are unable to access our Web site, you may submit an inquiry to: United States Institute of Peace, Grant Program, Solicited Initiative, 1200 17th Street, NW., Suite 200, Washington, DC 20036-3011, (202) 429-3842 (phone), (202) 833-1018 (fax), (202) 457-1719 (TTY), e-mail: grants@usip.org.

FOR FURTHER INFORMATION CONTACT: The Grant Program, Phone (202) 429-3842, E-mail: grants@usip.org.

Dated: June 4, 2007.
Michael Graham,
Vice President for Administration.

[FR Doc. 07-2831 Filed 6-6-07; 8:45 am]

BILLING CODE 6820-AR-M